DEPARTMENT OF DEFENSE

Department of the Air Force

HQ USAF Scientific Advisory Board Notice of Meeting

AGENCY: Department of the Air Force, HQ USAF Scientific Advisory Board.

ACTION: Notice.

SUMMARY: The Air Force Scientific Advisory Board (SAB) will meet on 28-29 June, 2007 at the Arnold and Mabel Beckman Center of the National Academies of Sciences and Engineering in Irvine, CA. The purpose of the meeting is to present the findings and recommendations of the FY 2007 SAB studies. The meeting will be closed to the public to discuss matters covered under subsection (c), subparagraphs (1), (4), and (9)(B) of Section 552b, Title 5, United States Code.

FOR FURTHER INFORMATION CONTACT: Lieutenant Colonel Kyle Gresham, Executive Director, Air Force Scientific Advisory Board, 1180 Air Force Pentagon, Washington, DC 20330-1040, (703) 697-4811.

BAO-ANH Trinh,
Air Force Federal Register Liaison Officer.

[FR Doc. E7-10508 Filed 5-30-07; 8:45 am]

BILLING CODE 5001-05-P